DEPARTMENT OF COMMERCE

National Oceanic and Atmospheric Administration

[RIN: 0648-XA530]

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Monkfish Advisory Panel, in July, 2011, to consider actions affecting New England fisheries in the exclusive economic zone (EEZ). Recommendations from this group will be brought to the full Council for formal consideration and action, if appropriate.

DATES: The meeting will be held on Tuesday, July 19, 2011 at 9 a.m.

ADDRESSES: The meeting will be held at the Crowne Plaza, 50 Ferncroft Road, Danvers, MA 01923; telephone: (978) 777-2500; fax: (978) 750-7959.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Monkfish Advisory Panel (AP) will meet to develop a detailed problem statement based on the list of issues identified by the Advisory Panel and Monkfish Oversight Committee. The Oversight Committee has requested that the Advisory Panel provide details, specificity and examples of the issues in the list for the purpose of developing recommended goals and objectives for Amendment 6 to the Monkfish Fishery Management Plan. In Amendment 6, the New England and Mid-Atlantic Fishery Management Councils are considering adopting catch shares management programs in one or both monkfish management areas. The Advisory Panel detailed list of issues will be forwarded to the Oversight Committee for review at its next meeting.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: June 28, 2011.
Tracey L. Thompson,
Acting Director, Office of Sustainable Fisheries, National Marine Fisheries Service.

[FR Doc. 2011-16586 Filed 6-30-11; 8:45 am]

BILLING CODE 3510-22-P